Proclamation 10752 of May 3, 2024

Missing or Murdered Indigenous Persons Awareness Day, 2024

By the President of the United States of America

A Proclamation

For decades, Native communities across this continent have been devastated by an epidemic of disappearances and killings, too often without resolution, justice, or accountability. On Missing or Murdered Indigenous Persons Awareness Day, we honor the individuals missing and the lives lost, and we recommit to working with Tribal Nations to end the violence and inequities that drive this crisis, delivering safety and healing.

Across Indian Country, justice for the missing has been elusive for too long. Too many Native families know the pain of a loved one being declared missing or murdered, and women, girls, and LGBTQI+ and Two-Spirit individuals are bearing the brunt of this violence. In the depths of their grief, the work of investigating these disappearances, demanding justice, and fighting for the hopeful return of their loved ones has fallen on the shoulders of families. Legions of brave activists have sought to change that. We need to provide greater resources and ensure the accountability that every community deserves.

During my first year in office, I signed an Executive Order directing Federal agencies to join Tribal Nations in responding to this crisis with new urgency. Since then, the Department of Justice and the Department of the Interior have worked together to accelerate investigations and bring families closure in ways that respect their cultures and the trauma they have endured. The Department of the Interior created a unit dedicated to this work, and the Federal Bureau of Investigation has hired personnel to focus on these cases and ensure that victims' families are heard throughout this process. Further, as a result of an effort spearheaded by Secretary of the Interior Deb Haaland when she was in the Congress, Federal agencies are responding to and implementing the recommendations of the Not Invisible Act Commission—a commission composed of loved ones of missing or murdered individuals, law enforcement, Tribal leaders, Federal partners, service providers, and survivors of gender-based violence—to combat this epidemic. We will continue working with the governments of Canada and Mexico through the Trilateral Working Group on Violence Against Indigenous Women and Girls to make sure our efforts are coordinated and incorporate Tribal input.

At the same time, we are supporting efforts within the community to crack down on gender-based violence in Indian Country. We reauthorized the Violence Against Women Act (VAWA) in 2022, which included historic provisions to strengthen Tribal sovereignty and safety, expanding Tribal jurisdiction to include prosecution of non-Native perpetrators of stalking, sexual assault, sex trafficking, and child abuse for crimes committed on Tribal lands. Further, my Administration invested in training for law enforcement and Federal court officers to ensure they respond to cases of gender-based violence through a trauma-informed and culturally responsive approach. My new Budget designates $800 million for the Department of Justice to support VAWA programs, including a new grant program that will work to address the missing or murdered Indigenous persons crisis.

The United States has made a solemn promise to fulfill its trust and treaty obligations to Tribal Nations and to help rebuild Tribal economies and institutions. Ending this devastating epidemic is an important piece of that work. Today, we mourn with the families who have lost a piece of their soul to this crisis, and we honor the Indigenous activists and advocates who have summoned the courage to shine light on the tragedy. Their actions have already saved countless lives. Together, we will resolve these unanswered questions and build a future for everyone based on safety, security, and self-determination.

NOW, THEREFORE, I, JOSEPH R. BIDEN JR., President of the United States of America, by virtue of the authority vested in me by the Constitution and the laws of the United States, do hereby proclaim May 5, 2024, as Missing or Murdered Indigenous Persons Awareness Day. I call on all Americans and ask all levels of government to support Tribal governments and Tribal communities' efforts to increase awareness and address the issues of missing or murdered Indigenous persons through appropriate programs and activities.

IN WITNESS WHEREOF, I have hereunto set my hand this third day of May, in the year of our Lord two thousand twenty-four, and of the Independence of the United States of America the two hundred and forty-eighth.

[FR Doc. 2024-10533

Filed 5-10-24; 8:45 am]

Billing code 3395-F4-P